DEPARTMENT OF THE INTERIOR

Bureau of Indian Affairs

Renewal of Agency Information Collection for Homeliving Programs and School Closure and Consolidation; Request for Comments

AGENCY: Bureau of Indian Affairs, Interior.

ACTION: Notice of request for comments.

SUMMARY: In compliance with the Paperwork Reduction Act of 1995, the Bureau of Indian Education (Bureau) is seeking comments on renewal of the Office of Management and Budget (OMB) approval for the collection of information for Homeliving Programs and School Closure and Consolidation. The information collection is currently authorized by OMB Control Number 1076-0164, which expires on March 31, 2011.

DATES: Interested persons are invited to submit comments on or before March 28, 2011.

ADDRESSES: You may submit comments on the information collection to Brandi Sweet, Policy Analyst, Bureau of Indian Education, Mail Stop 3609-MIB, 1849 C Street, NW., Washington, DC 20240; facsimile: (202) 208-3312; e-mail: Brandi.Sweet@bie.edu.

FOR FURTHER INFORMATION CONTACT: Brandi Sweet, Policy Analyst, at (202) 208-5504.

SUPPLEMENTARY INFORMATION:

I. Abstract

Public Law 107-110, the No Child Left Behind (NCLB) Act of January 8, 2001, requires all schools including Bureau-funded boarding/residential schools to ensure that all children have a fair, equal, and significant opportunity to obtain a high-quality education and reach, at a minimum, proficiency on challenging academic achievement standards and assessments. The NCLB Act, and implementing regulations at 25 CFR 36, requires the Bureau to implement national standards for homeliving situations in all Bureau-funded residential schools. The Bureau must collect information from all Bureau-funded residential schools in order to assess each school's progress in meeting the national standards. The Bureau is seeking renewal of the approval for this information collection to ensure that minimum academic standards for the education of Indian children and criteria for dormitory situations in Bureau-operated schools and Tribally-controlled contract and grant schools are met.

II. Request for Comments

The Bureau of Indian Education Office requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. This information collection expires on March 31, 2011.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0164.

Title: Homeliving Programs and School Closure and Consolidation.

Brief Description of Collection: Submission of this information allows the Department of the Interior to ensure that minimum academic standards for the education of Indian children and criteria for dormitory situations in Bureau-operated schools and Indian-controlled contract schools are met. Response is mandatory under 25 U.S.C. 2001.

Type of Review: Renewal.

Respondents: Bureau-funded schools with residential programs, tribal governing bodies, and school boards are the respondents, and submission is mandatory.

Number of Respondents: There are 66 schools with residential programs, of which 27 are Bureau-operated and 39 are tribally operated. Thus, the collection of information must be cleared for 39 of the 66 residential schools.

Total Number of Responses: 730 per year, on average.

Frequency of Response: Annually or on occasion, depending on the activity.

Estimated Time per Response: Ranges from 0.02 hours to 40 hours, depending on the activity.

Estimated Total Annual Burden: 1,344 hours.

Dated: December 14, 2010.
Alvin Foster,
Acting Chief Information Officer—Indian Affairs.

[FR Doc. 2011-1589 Filed 1-25-11; 8:45 am]

BILLING CODE 4310-4J-P